DEPARTMENT OF DEFENSE

Office of the Secretary

[Transmittal Nos. 11-47]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-47 with attached transmittal and policy justification.

Dated: November 21, 2011.
Aaron Siegel,
Alternate OSD Federal Register Liaison Officer, Department of Defense.

BILLING CODE 5001-06-P

BILLING CODE 5001-06-C

Transmittal No. 11-47

Notice of Proposed Issuance of Letter of Offer Pursuant to Section 36(b)(1) of the Arms Export Control Act, as amended

(i) Prospective Purchaser: United Kingdom

(ii) Total Estimated Value:

Major Defense Equipment * | $ 0 million.
Other | 200 million.
Total | 200 million.
* as defined in Section 47(6) of the Arms Export Control Act.

(iii) Description and Quantity or Quantities of Articles or Services Under Consideration for Purchase: long lead sub-assemblies for the Electromagnetic Aircraft Launch System/Advanced Arresting Gear (EMALS/AAG). The EMALS long lead sub-assemblies include: Energy Storage System, Power Conditioning System, and Launch Control System. The AAG includes: Power Conditioning, Energy Absorption Subsystems, Shock Absorbers, and Drive Fairleads. Also proposed are other items for Aircraft Launch and Recovery Equipment, spare and repair parts, support equipment, personnel training and training equipment, publications and technical documentation, software support, U.S. Government and contractor engineering, technical, and logistics support services, and all other related elements of program support.

(iv) Military Department: Navy (LUL)

(v) Prior Related Cases, if any: FMS Case FAL-$73M-6Apr11

(vi) Sales Commission, Fee, etc., Paid, Offered, or Agreed To Be Paid: None

(vii) Sensitivity of Technology Contained in the Defense Article or Defense Services Proposed To Be Sold: None

(viii) Date Report Delivered to Congress: 15 November 2011

Policy Justification

United Kingdom—Electromagnetic Aircraft Launch System Long Lead Sub-Assemblies

The Government of the United Kingdom (UK) has requested the long lead sub-assemblies for the Electromagnetic Aircraft Launch System/Advanced Arresting Gear (EMALS/AAG). The EMALS long lead sub-assemblies include: Energy Storage System, Power Conditioning System, and Launch Control System. The AAG includes: Power Conditioning, Energy Absorption Subsystems, Shock Absorbers, and Drive Fairleads. Also proposed are other items for Aircraft Launch and Recovery Equipment, spare and repair parts, support equipment, personnel training and training equipment, publications and technical documentation, software support, U.S. Government and contractor engineering, technical, and logistics support services, and all other related elements of program support. The estimated cost is $200 million.

This proposed sale will contribute to the foreign policy and national security of the United States by helping to maintain and improve the security of a key NATO ally that has been, and continues to be, an important force for major political stability and economic progress throughout Europe.

The proposed sale will improve the UK's aircraft carrier capability to meet current and future threats of adversaries at sea. The sub-systems will introduce state-of-the-art technology in the areas of aircraft launch and recovery onboard the UK's future aircraft carrier program. The UK will have no problem absorbing these additional sub-systems and support into its armed forces.

The proposed sale of this equipment and support will not alter the basic military balance in the region.

The prime contractor will be General Atomics in Rancho Bernardo, California. There are no known offset agreements proposed in connection with this potential sale.

Implementation of this sale will not require the assignment of additional U.S. Government or contractor representatives to the UK.

There will be no adverse impact on U.S. defense readiness as a result of this proposed sale.

[FR Doc. 2011-30368 Filed 11-23-11; 8:45 am]

BILLING CODE 5001-06-P